DEPARTMENT OF STATE

22 CFR Parts 41 and 139

[Public Notice: 11106]

RIN 1400-AE56

Removal of Regulations Relating to the Irish Peace Process Cultural Exchange and Training Program

AGENCY: Department of State.

ACTION: Final rule.

SUMMARY: In accordance with Executive Orders 13771 and 13777, which direct federal agencies to review and eliminate outdated and unnecessary regulations, the Department of State (“Department”) is removing regulations related to an obsolete visa program. The Irish Peace Process and Cultural Training Program was established in 1998 and created what is commonly referred to as the Walsh Visa Program. This visa program expired on September 30, 2008, and the regulations for administering the program are obsolete. Accordingly, the Department is removing the regulations related to this visa program.

DATES: This rule is effective on June 26, 2020.

FOR FURTHER INFORMATION CONTACT: Taylor Beaumont, Acting Chief, Legislation and Regulations Division, Legal Affairs, Office of Visa Services, Bureau of Consular Affairs, 600 19th Street NW, Washington, DC 20522, 202-485-8910, VisaRegs@state.gov.

SUPPLEMENTARY INFORMATION: The Irish Peace Process Cultural and Training Program Act of 1998, Public Law 105-319, created what is commonly referred to as the Walsh Visa Program. This program allowed young people from disadvantaged areas of Northern Ireland and designated counties of the Republic of Ireland suffering from sectarian violence and high structural unemployment to temporarily enter the United States to develop job skills and conflict resolution abilities in a diverse, cooperative, peaceful, and prosperous environment. At the conclusion of their stay, these young people were expected to return to their homes better able to contribute toward economic regeneration and the Irish peace process.

The Department promulgated the regulations at 22 CFR part 139 to implement the Walsh Visa Program. At the same time, the Department promulgated the regulations in Part 41 related to the Q2 and Q3 nonimmigrant visa classifications for eligible individuals. This visa program ended on September 30, 2008. Initially established with a September 20, 2005, end date, the visa program was extended through September 30, 2008, by Public Law 108-449. The regulations for administering the program became obsolete upon the expiration of the program in 2008. The Department is therefore removing the program-related regulations at 22 CFR part 139, and the corresponding visa regulations at 22 CFR part 41, including sections 41.57(b), 41.101(f), and the obsolete classification codes for Q2 and Q3 visas at 22 CFR 41.12.

Regulatory Findings

Administrative Procedure Act

This rule is issued without prior notice and opportunity to comment, with an immediate effective date, pursuant to the Administrative Procedure Act (APA), 5 U.S.C. 553(b) and (d). Under 5 U.S.C. 553(b)(B), agencies are exempt from notice and comment rulemaking when an agency finds for good cause that “notice and public procedures are impracticable, unnecessary, or contrary to the public interest.” The APA also authorizes agencies to dispose of a 30-day delay in effective date and make a rule effective immediately upon a showing of good cause. 5 U.S.C. 553(d)(3). The Department finds that good cause exists both to waive prior notice and comment and the 30-day delay of effective date on this rule because public comment is unnecessary. This program ended on September 30, 2008, making this rule obsolete. The program to which the rule relates is no longer authorized. Therefore, in accordance with 5 U.S.C. 553(b) and (d), this rule is effective immediately and is not subject to the notice-and-comment rule making procedures set forth in 5 U.S.C. 553.

Regulatory Flexibility Act/Executive Order 13272: Small Business

Because this final rule is exempt from notice and comment rulemaking under 5 U.S.C. 553, it is exempt from the regulatory flexibility analysis requirements set forth by the Regulatory Flexibility Act (5 U.S.C. 603 and 604).

Unfunded Mandates Reform Act of 1995

This rule will not result in the expenditure by State, local, and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined in 5 U.S.C. 804, for purposes of congressional review of agency rulemaking under the Small Business Regulatory Enforcement Fairness Act of 1996. This rule will not result in an annual effect on the economy of $100 million or more; a major increase in costs or prices; or adverse effects on competition, employment, investment, productivity, innovation, or the ability of United States-based companies to compete with foreign-based companies in domestic and import markets.

Executive Order 12866 and 13771: Reducing Regulation and Controlling Regulatory Costs

The Department does not consider this rule to be a “significant regulatory action” under Executive Order 12866, section 3(f), Regulatory Planning and Review. The Department has nevertheless reviewed the regulation to ensure its consistency with the regulatory philosophy and principles set forth in that Executive Order with the guidance therein. This rule withdraws defunct regulations and thus will not impose any costs on the public. This rule is an E.O. 13771 deregulatory action.

Executive Orders 12372 and 13132: Federalism

This rulemaking will not have substantial direct effects on the States, on the relationship between the national government and the States, or the distribution of power and responsibilities among the various levels of government. Nor will the rule have federalism implications warranting the application of Executive Orders 12372 and 13132.

Executive Order 13175: Consultation and Coordination With Indian Tribal Governments

The Department has determined that this rulemaking will not have tribal implications, will not impose substantial direct compliance costs on Indian tribal governments, and will not preempt tribal law. Accordingly, the requirements of Section 5 of Executive Order 13175 do not apply to this rulemaking.

Paperwork Reduction Act

This rule does not impose or revise any reporting or record-keeping requirements subject to the Paperwork Reduction Act, 44 U.S.C. chapter 35.

List of Subjects

22 CFR Part 41

Aliens, Nonimmigrants, Passports, Visas.

22 CFR Part 139

Aliens, Passports, Visas.

Accordingly, for the reasons set forth in the preamble, 22 CFR parts 41 and 139 are amended as follows:

PART 41—VISAS: DOCUMENTATION OF NONIMMIGRANTS UNDER THE IMMIGRATION AND NATIONALITY ACT, AS AMENDED

1. The authority citation for Part 41 continues to read as follows:

Authority: 22 U.S.C. 2651a; 8 U.S.C. 1104; Pub. L. 105-277, 112 Stat. 2681-795 through 2681-801; 8 U.S.C. 1185 note (section 7209 of Pub. L. 108-458, as amended by section 546 of Pub. L. 109-295).

§ 41.12 [Amended]

2. In § 41.12 amend the table by removing the classification symbols for Q2 and Q3.

3. Amend § 41.57 by revising the section heading and removing and reserving paragraph (b) to read as follows:

§ 41.57 International cultural exchange visitors.

* * * * *

§ 41.101 [Amended]

4. Amend § 41.101 by removing and reserving paragraph (f).

PART 139—[REMOVED AND RESERVED]

5. Under the authority of Public Law 105-319, 112 Stat. 3013; 22 U.S.C. 2651a, remove and reserve part 139.

Carl C. Risch,
Assistant Secretary, Consular Affairs, Department of State.

[FR Doc. 2020-12649 Filed 6-25-20; 8:45 am]

BILLING CODE 4710-06-P